DEPARTMENT OF COMMERCE

International Trade Administration

[A-570-992]

Monosodium Glutamate From the People's Republic of China: Preliminary Results of Antidumping Duty Administrative Review; 2023-2024

AGENCY: Enforcement and Compliance, International Trade Administration, Department of Commerce.

SUMMARY: The U.S. Department of Commerce (Commerce) preliminarily finds that Ajinoriki MSG (Malaysia) Sdn Bhd (Ajinoriki), the sole company subject to the administrative review of the antidumping duty order on monosodium glutamate (MSG) from the People's Republic of China (China) covering the period of review (POR) November 1, 2023, through October 31, 2024, is not eligible to receive a separate rate and is, therefore, considered part of the China-wide entity. Furthermore, Commerce finds that, because no party requested a review of the China-wide entity for the POR, the China-wide entity is not under review, and the China-wide entity's rate (i.e., 40.41 percent) is not subject to change.

DATES: Applicable February 11, 2026.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On January 6, 2015, Commerce published the Order ¹ in the Federal Register. On November 1, 2024, Commerce notified interested parties of the opportunity to request an administrative review of the Order.² Pursuant to section 751(a)(1) of the Tariff Act of 1930, as amended (the Act), and 19 CFR 351.213(b)(2), Ajinoriki timely filed a request for an administrative review.³ On December 18, 2024, in accordance with 19 CFR 351.221(c)(1)(i), Commerce published a notice of initiation of this administrative review.⁴

¹ See Monosodium Glutamate from the People's Republic of China: Second Amended Final Determination of Sales at Less Than Fair Value and Amended Antidumping Duty Order, 80 FR 487 (January 6, 2015) (Order); see also Monosodium Glutamate from the People's Republic of China, and the Republic of Indonesia: Antidumping Duty Orders; and Monosodium Glutamate from the People's Republic of China: Amended Final Determination of Sales at Less Than Fair Value, 79 FR 70505 (November 26, 2014).

² See Antidumping or Countervailing Duty Order, Finding, or Suspended Investigation; Opportunity to Request Administrative Review and Join Annual Inquiry Service List, 89 FR 87338 (November 1, 2024).

³ See Ajinoriki's Letter, “Request for Administrative Review,” dated December 2, 2024.

⁴ See Initiation of Antidumping and Countervailing Duty Administrative Reviews, 89 FR 102856 (December 18, 2024) (Initiation Notice).

In the Initiation Notice, Commerce stated that exporters in a proceeding involving a non-market economy (NME) country must timely file a Separate Rate Application (SRA) or Separate Rate Certification (SRC) “if they want to be considered for individual examination,” and provided an opportunity for interested parties to file SRCs or SRAs.⁵ We received no SRA or SRC from Ajinoriki, the only company under review. Because we received no SRA or SRC, and, as discussed below, Commerce finds that Ajinoriki, the only company subject to this review, is part of the China-wide entity and is not eligible for individual examination. Further, because the China-wide entity is not subject to this review, there are no calculations for these preliminary results of review and no decision memorandum accompanies this notice.

⁵ Id., 89 FR at 102857-8 (emphasis added).

Scope of the Order

The product covered by the Order is MSG from China. For a complete description of the scope of the Order, see the appendix to this notice.

Methodology

Commerce considers China to be an NME country.⁶ In accordance with section 771(18)(C)(i) of the Act, any determination that a foreign country is an NME country shall remain in effect until revoked by the administering authority. Therefore, for these preliminary results, we treated China as an NME country and applied our current NME methodology in accordance with section 773(c) of the Act.

⁶ See Antidumping Duty Investigation of Certain Aluminum Foil from the People's Republic of China: Affirmative Preliminary Determination of Sales at Less-Than-Fair-Value and Postponement of Final Determination, 82 FR 50858, 50861 (November 2, 2017), and accompanying Preliminary Decision Memorandum (PDM) at 7-8 (citing Memorandum, “China's Status as a Non-Market Economy,” dated October 26, 2017), unchanged in Certain Aluminum Foil from the People's Republic of China: Final Determination of Sales at Less Than Fair Value, 83 FR 9282 (March 5, 2018).

Separate Rate Determinations

In a proceeding involving an NME country, Commerce maintains a rebuttable presumption that all companies within the country are subject to government control and, therefore, should be assessed a single weighted-average dumping margin.⁷ Commerce notified parties in the Initiation Notice that “{t}he deadline and requirement for submitting a Separate Rate Application applies equally to NME-owned firms, wholly foreign-owned firms, and foreign sellers that purchase and export subject merchandise to the United States.” ⁸ Also in the Initiation Notice, Commerce notified parties of the application process by which exporters may obtain separate rate status in this administrative review.⁹ This process requires exporters to submit an SRA ¹⁰ and to demonstrate the absence of both de jure and de facto government control over their export activities. In the Initiation Notice, Commerce required that all firms listed in the notice “that wish to qualify for separate rates status in the administrative reviews involving NME countries must complete, as appropriate, either a {SRA} or {SRC} . . .” ¹¹

⁷ See, e.g., Polyethylene Terephthalate Film, Sheet, and Strip from the People's Republic of China: Final Determination of Sales at Less Than Fair Value, 73 FR 55039, 55040 (September 24, 2008).

⁸ See Initiation Notice.

⁹ See Initiation Notice, 89 FR at 102857.

¹⁰ For a description of our practice, see Enforcement and Compliance's Policy Bulletin No. 05.1, regarding “Separate-Rates Practice and Application of Combination Rates in Antidumping Investigations Involving Non-Market Economy Countries,” (April 5, 2005), available on Commerce's website at https://access.trade.gov/Resources/policy/bull05-1.pdf.

¹¹ See Initiation Notice, 89 FR at 102858.

Commerce's policy is to assign all exporters of merchandise under consideration that are in an NME country this single rate unless an exporter can demonstrate that it is sufficiently independent so as to be entitled to a separate rate.¹² Commerce analyzes whether each entity exporting the merchandise under consideration is sufficiently independent under a test established in Sparklers from China ¹³ and further developed in Silicon Carbide from China.¹⁴ In accordance with this separate rate test, Commerce will assign a separate rate in an NME proceeding if a respondent can demonstrate the absence of both de jure and de facto government control over its export activities. If, however, Commerce determines that a company is wholly foreign owned, then a separate rate analysis is not necessary to determine whether that company is independent from government control and eligible for a separate rate.

¹² See Final Determination of Sales at Less Than Fair Value: Sparklers from the People's Republic of China, 56 FR 20588, 20589 (May 6, 1991) (Sparklers from China).

¹³ Id.

¹⁴ See Notice of Final Determination of Sales at Less Than Fair Value: Silicon Carbide from the People's Republic of China, 59 FR 22585 (May 2, 1994) (Silicon Carbide from China).

Commerce continues to evaluate its practice with regard to the separate rates analysis in light of the Diamond Sawblades from China ¹⁵ proceedings and its determinations therein. In particular, in litigation involving the Diamond Sawblades from China proceeding, the U.S. Court of International Trade (CIT) found Commerce's existing separate rates analysis deficient in the circumstances of that case, in which a government-owned and controlled entity exercised control over the respondent exporter.¹⁶ Following the CIT's reasoning, in recent proceedings, we have concluded that where a government entity holds a majority equity ownership, either directly or indirectly, in the respondent exporter, this interest in and of itself means that the government exercises or has the potential to exercise control over the company's operations generally.¹⁷ This may include control over, for example, the selection of board members and management, key factors in determining whether a company has sufficient independence in its export activities to merit a separate rate. Consistent with our normal separate rate practice, any ability to control, or possess an interest in controlling, the operations of the company including the selection of board members, management, and the profit distribution of the company by a government entity is subject to Commerce's rebuttable presumption that all companies within the NME country are subject to government control.

¹⁵ See Final Results of Redetermination Pursuant to Court Remand, Diamond Sawblades and Parts Thereof from the People's Republic of China, Consol. Court No. 09-00511, Slip Op. 12-147 (CIT November 30, 2012), dated May 6, 2013, available at https://enforcement.trade.gov/remands/12-147.pdf, in Advanced Technology & Materials Co., Ltd., et al. v. United States, 885 F.Supp.2d 1343 (CIT 2012) (Advanced Technology I), aff'd Advanced Technology & Materials Co. v. United States, 938 F.Supp.2d 1342 (CIT 2013), aff'd Advanced Technology & Materials Co. v. United States, Court No. 2014-1154 (Fed. Cir. 2014); see also Diamond Sawblades and Parts Thereof from the People's Republic of China: Preliminary Results of Antidumping Duty Administrative Review; 2011-2012, 78 FR 77098 (December 20, 2013), and accompanying Preliminary Decision Memorandum (PDM) at 7, unchanged in Diamond Sawblades and Parts Thereof from the People's Republic of China: Final Results of Antidumping Duty Administrative Review; 2011-2012, 79 FR 35723 (June 24, 2014), and accompanying Issues and Decision Memorandum at Comment 1 (collectively, Diamond Sawblades from China).

¹⁶ See, e.g., Advanced Technology I, 885 F.Supp.2d at 1349 (CIT 2012) (“The court remains concerned that Commerce has failed to consider important aspects of the problem and offered explanations that run counter to the evidence before it.”); Id., 885 F.Supp.2d at 1351 (“Further substantial evidence of record does not support the inference that SASAC's {state-owned assets supervision and administration commission} `management' of its `state-owned assets' is restricted to the kind of passive-investor de jure `separation' that Commerce concludes.”) (footnotes omitted); Id., 885 F.Supp.2d at 1355 (“The point here is that `government control' in the context of the separate rate test appears to be a fuzzy concept, at least to this court, since a `degree' of it can obviously be traced from the controlling shareholder, to the board, to the general manager, and so on along the chain to `day-to-day decisions of export operations,' including terms, financing, and inputs into finished product for export.”); Id., 885 F.Supp.2d at 1357 (“AT&M itself identifies its `controlling shareholder' as CISRI {owned by SASAC} in its financial statements and the power to veto nomination does not equilibrate the power of control over nomination.”) (footnotes omitted).

¹⁷ See Carbon and Certain Alloy Steel Wire Rod from the People's Republic of China: Preliminary Determination of Sales at Less Than Fair Value and Preliminary Affirmative Determination of Critical Circumstances, in Part, 79 FR 53169 (September 8, 2014), and accompanying PDM at 5-9.

In order to demonstrate eligibility for separate rate status, Commerce normally requires an exporter for which a review was requested, and which was assigned a separate rate in a previous completed segment of the proceeding and which remains active for that exporter, to submit an SRC stating that it continues to meet the criteria for obtaining a separate rate.¹⁸ For an exporter that was not assigned a separate rate in a previously completed segment of the proceeding and which remains active for that exporter, to demonstrate eligibility, Commerce requires an SRA.¹⁹ A company that submits an SRA or SRC and which is subsequently selected for examination must respond to all parts of Commerce's questionnaire in order to be eligible for a separate rate.²⁰

¹⁸ See Initiation Notice.

¹⁹ Id.

²⁰ Id.

In the Initiation Notice, Commerce stated that submission of SRAs and SRCs were due 30 days after publication of the notice, i.e., January 17, 2025.²¹ Moreover, Commerce specifically noted that “{t}he deadline and requirement for submitting a Separate Rate Application applies equally to NME-owned firms, wholly foreign-owned firms, and foreign sellers who purchase and export subject merchandise to the United States.” ²² Ajinoriki, the sole company subject to this review, failed to submit an SRA as it did not have separate rate status. As such, consistent with Commerce's practice for when a party fails to submit an SRA or SRC, we preliminarily find that Ajinoriki is not eligible for a separate rate, and, therefore, is part of the China-wide entity.²³ Commerce's practice with respect to an exporter that fails to submit an SRA or SRC has been upheld by the U.S. Court of Appeals for the Federal Circuit.²⁴ Commerce further notes that, because this review was initiated with respect to only one company (i.e., Ajinoriki), there are no remaining companies subject to review, including the China-wide entity.²⁵ As a result, Commerce did not need to limit examination or select respondents and therefore did not place U.S. Customs and Broder Protection (CBP) data on the record for that purpose. Furthermore, because no company or the China-wide entity were eligible for examination, Commerce did not issue a questionnaire.

²¹ Id.

²² Id., 89 FR at 102858.

²³ See e.g., Crystalline Silicon Photovoltaic Cells, Whether or Not Assembled Into Modules, from the People's Republic of China: Final Results of Antidumping Duty Administrative Review and Final Determination of No Shipments; 2012-2013, 80 FR 40998 (July 14, 2015) (treating a company as part of the China-wide entity for failure to submit an SRA, and explaining that “{t}he failure to provide a separate rate certification is not a ministerial error, but rather, a failure to comply with {Commerce}'s well established separate rate methodology.”); see also, e.g., Hydrofluorocarbon Blends from the People's Republic of China: Final Results of the Antidumping Duty Administrative Review; 2019-2020, 86 FR 49516, 49517 (September 3, 2021) (finding that PureMann, Inc. (PureMann), the sole company subject to the review, did not file an SRA and did not demonstrate its eligibility for separate rate status and that, therefore, PureMann was part of the China-wide entity).

²⁴ See Repwire LLC v. United States, 628 F.Supp.3d 1288 (CIT 2023), aff'd 2025 WL 2399398 (Fed. Cir. Aug. 19, 2025) (finding that “Commerce's actions were reasonable and supported by substantial evidence” in a case in which Commerce rescinded an initial questionnaire and found that Jin Tiong Electrical Materials Manufacturer PTE. Ltd. (Jin Tiong) was part of the China wide entity due to its failure to submit a timely SRA).

²⁵ See Initiation Notice, 89 FR at 102862.

China-Wide Entity

Under Commerce's policy regarding the conditional review of the China-wide entity,²⁶ the China-wide entity will not be under review unless a party specifically requests, or Commerce self-initiates, a review of the entity. Because no party requested a review of the China-wide entity during this POR, the China-wide entity is not under review, and the China-wide entity's rate (i.e., 40.41 percent) is not subject to change.²⁷

²⁶ See Antidumping Proceedings: Announcement of Change in Department Practice for Respondent Selection in Antidumping Duty Proceedings and Conditional Review of the Nonmarket Economy Entity in NME Antidumping Duty Proceedings, 78 FR 65963 (November 4, 2013).

²⁷ See Order.

Preliminary Results of Review

Because Ajinoriki failed to timely file an SRA in this review, we preliminarily find that it is ineligible for a separate rate and is considered part of the China-wide entity.

Disclosure

Normally, Commerce will disclose to the parties in a proceeding the calculations performed in connection with preliminary results of review within five days of any public announcement or, if there is no public announcement, within five days of the date of publication of the notice of preliminary results in the Federal Register, in accordance with 19 CFR 351.224(b). However, because Commerce finds that the sole exporter of MSG subject to review is part of the China-wide entity and Commerce has not initiated a review of the China-wide entity, there are no calculations to disclose for these preliminary results of review.

Public Comment

Case briefs and other written comments may be submitted to the Assistant Secretary for Enforcement and Compliance. Pursuant to 19 CFR 351.309(c), we have modified the deadline for interested parties to submit case briefs to Commerce to no later than 21 days after the date of publication of this notice. Rebuttal briefs, limited to issues raised in the case briefs, may be filed not later than five days after the date for filing case briefs.²⁸ Interested parties who submit case briefs or rebuttal briefs in this proceeding must submit: (1) a table of contents listing each issue; and (2) a table of authorities.²⁹ An electronically filed document must be received successfully in its entirety in ACCESS by 5:00 p.m. Eastern Time (ET) on the established deadline.

²⁸ See 19 CFR 351.309(d); see also Administrative Protective Order, Service, and Other Procedures in Antidumping and Countervailing Duty Proceedings, 88 FR 67069, 67077 (September 29, 2023) (APO and Service Final Rule).

²⁹ See 19 CFR 351.309(c)(2) and (d)(2).

As provided under 19 CFR 351.309(c)(2)(iii) and (d)(2)(iii), we request that interested parties provide at the beginning of their briefs a public, executive summary for each issue raised in their briefs.³⁰ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).³¹

³⁰ We use the term “issue” here to describe an argument that Commerce would normally address in a comment of the Issues and Decision Memorandum.

³¹ See APO and Service Final Rule.

Pursuant to 19 CFR 351.310(c), interested parties who wish to request a hearing must submit a written request to the Assistant Secretary for Enforcement and Compliance, filed electronically via ACCESS. An electronically filed hearing request must be received successfully in its entirety by Commerce's electronic records system, ACCESS, by 5:00 p.m. ET within 30 days after the date of publication of this notice.³² Hearing requests should contain: (1) the party's name, address and telephone number; (2) the number of participants; (3) whether any participant is a foreign national; and (4) a list of issues to be discussed. Issues raised in the hearing will be limited to those raised by each party in their respective case and rebuttal briefs. An electronically filed request must be received successfully in its entirety by ACCESS by 5:00 p.m. Eastern Time, within 30 days of the publication date of this notice. If a request for a hearing is made, parties will be notified of the time and date of the hearing.³³

³² See 19 CFR 351.301(c).

³³ See 19 CFR 351.310(d).

Assessment Rates

In accordance with section 751(a)(2)(C) of the Act, the final results of this review shall be the basis for assessment of antidumping duties on entries of merchandise covered by this review.³⁴ Upon issuance of the final results, Commerce shall determine, and CBP shall assess, antidumping duties on all appropriate entries covered by this review.³⁵ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

³⁴ See 19 CFR 351.212(b)(1).

³⁵ Id.

For the final results of this review, if we continue to find that Ajinoriki is not eligible for a separate rate and treat it as part of the China-wide entity, we will instruct CBP to apply the ad valorem weighted-average dumping margin for the China-wide entity, i.e., 40.41 percent,³⁶ to assess antidumping duties for all entries of subject merchandise during the POR which was exported by Ajinoriki.

³⁶ See Order.

Cash Deposit Requirements

The following cash deposit requirements for estimated antidumping duties will be effective upon publication of the final results of this administrative review for all shipments of the subject merchandise from China entered, or withdrawn from warehouse, for consumption on or after the publication date, as provided for by section 751(a)(2)(C) of the Act: (1) for subject merchandise exported by a company with a separate rate from a previously completed segment of this proceeding, the cash deposit rate will continue to be the existing exporter-specific rate, or produced-exporter-specific rate, for that exporter, (2) for all exporters of subject merchandise that have not been found to be entitled to a separate rate, i.e., the China-wide entity, the cash deposit rate will continue to be 40.41 percent.

These cash deposit requirements, when imposed, shall remain in effect until further notice.

Final Results of Review

Unless otherwise extended, Commerce intends to issue the final results of this administrative review, including the results of its analysis of issues raised in case and rebuttal briefs, within 120 days of publication of these preliminary results of review in the Federal Register, pursuant to section 751(a)(3)(A) of the Act.

Notification to Importers

This notice serves as a preliminary reminder to importers of their responsibility under 19 CFR 351.402(f) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results of review in accordance with sections 751(a)(1) and 777(i)(1) of the Act, and 19 CFR 351.213 and 351.221(b)(4).

Dated: February 6, 2026.
Christopher Abbott,
Deputy Assistant Secretary for Policy and Negotiations, performing the non-exclusive functions and duties of the Assistant Secretary for Enforcement and Compliance.

Appendix

Scope of the Order

The products covered by this order are monosodium glutamate (MSG), whether or not blended or in solution with other products. Specifically, MSG that has been blended or is in solution with other product(s) is included in this order when the resulting mix contains 15 percent or more of MSG by dry weight. Products with which MSG may be blended include, but are not limited to, salts, sugars, starches, maltodextrins, and various seasonings.

Further, MSG is included in this order regardless of physical form (including, but not limited to, in monohydrate or anhydrous form, or as substrates, solutions, dry powders of any particle size, or unfinished forms such as MSG slurry), end-use application, or packaging. MSG in monohydrate form has a molecular formula of C5H8NO4Na-H2O, a Chemical Abstract Service (CAS) registry number of 6106-04-3, and a Unique Ingredient Identifier (UNII) number of W81N5U6R6U. MSG in anhydrous form has a molecular formula of C5H8NO4Na, a CAS registry number of 142-47-2, and a UNII number of C3C196L9FG.

Merchandise covered by this order is currently classified in the Harmonized Tariff Schedule (HTS) of the United States at subheading 2922.42.10.00. Merchandise covered by this order may also enter under HTS subheadings 2922.42.50.00, 2103.90.72.00, 2103.90.74.00, 2103.90.78.00, 2103.90.80.00, and 2103.90.90.91. These tariff classifications, CAS registry numbers, and UNII numbers are provided for convenience and customs purposes; however, the written description of the scope is dispositive.

[FR Doc. 2026-02778 Filed 2-10-26; 8:45 am]

BILLING CODE 3510-DS-P